ENVIRONMENTAL PROTECTION AGENCY

[FRL-8984-5]

Notice of Availability of Final NPDES General Permits for Discharges at Hydroelectric Generating Facilities in the States of Massachusetts and New Hampshire and Tribal Lands in the State of Massachusetts

AGENCY: Environmental Protection Agency (EPA).

ACTION: Notice of availability of final NPDES general permits MAG360000 and NHG360000.

SUMMARY: The Director of the Office of Ecosystem Protection, Environmental Protection Agency-Region 1, is today providing notice of availability of the final National Pollutant Discharge Elimination System (NPDES) general permits for specific discharges at Hydroelectric Generating Facilities in the States of Massachusetts and New Hampshire and Tribal Lands located in the State of Massachusetts. These discharges include equipment related cooling water, equipment and floor drain water, backwash strainer water, certain maintenance related waters, and combinations of the preceding discharges. The general permits establish notification requirements, permit eligibility requirements, effluent limitations, standards, prohibitions and best management practice plans.

Owners and/or operators of hydroelectric generating facilities with these discharges, including those facilities currently authorized to discharge under individual NPDES permits, are eligible to apply for coverage. Facilities will receive a written notification from EPA whether permit coverage and authorization to discharge under one of the general permits is approved. These general permits do not cover new sources as defined under 40 CFR 122.2.

DATES: These general permits shall be effective on December 7, 2009 and will expire five years from the effective date.

ADDRESSES: The required notification information to obtain permit coverage is provided for each general permit. This information shall be submitted to EPA-Region 1, Office of Ecosystem Protection (CMP), 1 Congress Street, Suite 1100, Boston, Massachusetts 02114-2023 and to the appropriate State Agency.

FOR FURTHER INFORMATION CONTACT: Additional information concerning the final permits may be obtained between the hours of 8 a.m. and 4 p.m. Monday through Friday excluding holidays from: William Wandle, Office of Ecosystem Protection, Environmental Protection Agency, 1 Congress Street, Suite 1100 (CMP), Boston, MA 02114-2023, telephone: 617-918-1605, e-mail: wandle.bill@epa.gov.

SUPPLEMENTARY INFORMATION: This general permit and the response to comments may be viewed over the Internet via the EPA-Region 1 Web site for dischargers in Massachusetts at http://www.epa.gov/ne/npdes/mass.html and for dischargers in New Hampshire at http://www.epa.gov/ne/npdes/newhampshire.html. The general permits include the requirements for the notice of intent information and best management practices plan, and the standard permit conditions. To obtain a paper copy of the documents, please contact William Wandle using the contact information provided above. A reasonable fee may be charged for copying requests.

Dated: November 10, 2009.
Ira W. Leighton,
Acting Regional Administrator, Region 1.

[FR Doc. E9-29074 Filed 12-4-09; 8:45 am]

BILLING CODE 6560-50-P